DEPARTMENT OF HEALTH AND HUMAN SERVICES

Food and Drug Administration

[Docket No. FDA-2012-N-0001]

Neurological Devices Panel of the Medical Devices Advisory Committee; Notice of Meeting; Correction

AGENCY: Food and Drug Administration, HHS.

ACTION: Notice; correction.

SUMMARY: The Food and Drug Administration (FDA) is correcting a notice that appeared in the Federal Register of Friday, December 7, 2012 (77 FR 73034). The product name in the document was incorrect. This document corrects that error.

FOR FURTHER INFORMATION CONTACT: Natasha Facey, Center for Devices and Radiological Health, Food and Drug Administration, 10903 New Hampshire Ave., Silver Spring, MD 20993, 301-796-5290, Natasha.Facey@fda.hhsgov.

SUPPLEMENTARY INFORMATION: In FR doc. 2012-29538, appearing on page 73034 in the Federal Register of Friday, December 7, 2012, the following correction is made:

1. On page 73034, in the second column under the section entitled “Agenda”, the product name “NeuroPace Responsive Neurostimulation (RNS) System” is corrected to read “NeuroPace RNS System”.

Dated: December 7, 2012.
Jill Hartzler Warner,
Acting Associate Commissioner for Special Medical Programs.

[FR Doc. 2012-30024 Filed 12-12-12; 8:45 am]

BILLING CODE 4160-01-P